DEPARTMENT OF ENERGY

Federal Energy Regulatory Commission

Combined Notice of Filings #2

Take notice that the Commission received the following electric rate filings:

Docket Numbers: ER25-785-001.

Applicants: PJM Interconnection, L.L.C.

Description: Compliance filing: Compliance Filing in ER25-785 to be effective 2/21/2025.

Filed Date: 3/6/25.

Accession Number: 20250306-5218.

Comment Date: 5 p.m. ET 3/27/25.

Docket Numbers: ER25-1517-000.

Applicants: Walnut Bend Solar LLC.

Description: Tariff Amendment: Notice of Cancellation of Market-Based Rate Tariff to be effective 3/31/2025.

Filed Date: 3/6/25.

Accession Number: 20250306-5000.

Comment Date: 5 p.m. ET 3/27/25.

Docket Numbers: ER25-1520-000.

Applicants: PJM Interconnection, L.L.C.

Description: § 205(d) Rate Filing: Original NSA, Service Agreement No. 7608; Project Identifier No. AC1-189 to be effective 5/6/2025.

Filed Date: 3/6/25.

Accession Number: 20250306-5066.

Comment Date: 5 p.m. ET 3/27/25.

Docket Numbers: ER25-1522-000.

Applicants: SR Arlington II MT, LLC.

Description: Tariff Amendment: Notice of Cancellation of Market-Based Rate Tariff to be effective 3/7/2025.

Filed Date: 3/6/25.

Accession Number: 20250306-5111.

Comment Date: 5 p.m. ET 3/27/25.

Docket Numbers: ER25-1523-000.

Applicants: Southwest Power Pool, Inc.

Description: § 205(d) Rate Filing: Revisions to Short-Term Service System Impact Studies (RR 643) to be effective 5/6/2025.

Filed Date: 3/6/25.

Accession Number: 20250306-5203.

Comment Date: 5 p.m. ET 3/27/25.

Docket Numbers: ER25-1524-000.

Applicants: ISO New England Inc., NSTAR Electric Company.

Description: § 205(d) Rate Filing: ISO New England Inc. submits tariff filing per 35.13(a)(2)(iii: ISO-NE and NSTAR; Local Service Agreement No. TSA-NU-50 to be effective 5/6/2025.

Filed Date: 3/6/25.

Accession Number: 20250306-5205.

Comment Date: 5 p.m. ET 3/27/25.

Docket Numbers: ER25-1525-000.

Applicants: PJM Interconnection, L.L.C.

Description: § 205(d) Rate Filing: Proposal to Extend Demand Resource Availability Window to be effective 5/6/2025.

Filed Date: 3/6/25.

Accession Number: 20250306-5209.

Comment Date: 5 p.m. ET 3/27/25.

Docket Numbers: ER25-1526-000.

Applicants: PJM Interconnection, L.L.C.

Description: § 205(d) Rate Filing: Original GIA, Service Agreement No. 7577; AF2-133 to be effective 2/4/2025.

Filed Date: 3/6/25.

Accession Number: 20250306-5221.

Comment Date: 5 p.m. ET 3/27/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: March 6, 2025.
Carlos D. Clay,
Deputy Secretary.

[FR Doc. 2025-03910 Filed 3-11-25; 8:45 am]

BILLING CODE 6717-01-P